DEPARTMENT OF TRANSPORTATION

National Highway Traffic Safety Administration

[U.S. DOT Docket Number NHTSA-2005-22174]

Reports, Forms, and Recordkeeping Requirements

AGENCY: National Highway Traffic Safety Administration (NHTSA), Department of Transportation.

ACTION: Emergency Federal Register notice.

SUMMARY: The Department of Transportation has submitted the following emergency processing public information collection request to the Office of Management and Budget (OMB) for review and clearance under the Paperwork Reduction Act of 1995 (Pub. L. 104-13, 44 U.S.C. Chapter 35). This notice announces that the Information Collection Requested (ICR) abstracted below has been forwarded to the Office of Management and Budget (OMB) for review and comment. The ICR describes the nature of the information collection and its expected burden. Comments should be directed to the Office of Regulatory Affairs, Office of Management and Budget, 725-17th Street, NW., Washington, DC 20503, Attention NHTSA Desk Officer.

DATES: OMB approval has been requested by September 1, 2005.

FOR FURTHER INFORMATION CONTACT: Complete copies of this request for collection of information may be obtained at no charge from Donna Glassbrenner, Ph.D., Department of Transportation, National Highway Traffic Safety Administration, 400 Seventh Street, SW., Room 6125, NPO-121, Washington, DC 20590. Dr. Glassbrenner's telephone number is (202) 366-3962. Please identify the relevant collection of information by referring to its Docket Number above.

SUPPLEMENTARY INFORMATION: Title: National Survey of the Use of Booster Seats.

OMB Control Number: New.

Affected Public: Motorists in passenger vehicles at gas stations, fast food restaurants, and other types of sites frequented by children during the time in which the survey is conducted.

Form Number: NHTSA 1010.

Abstract: The National Survey of the Use of Booster Seats is being conducted to respond to the Section 14(i) of the Transportation Recall Enhancement, Accountability, and Documentation (TREAD) Act of 2000. The Act directs the Department of Transportation to reduce the deaths and injuries among children in the 4-to-8 year old age group that are caused by failure to use a booster seat by 25 percent. Conducting the National Survey of the Use of Booster Seats will provide the Department with invaluable information on who is and is not using booster seats, helping the Department better direct its outreach programs to ensure that children are protected to the greatest degree possible when they ride in motor vehicles. Emergency approval is requested for the survey in order to obtain this important survey data as soon as possible, saving more children and helping to comply with the TREAD Act requirement.

Estimated Annual Burden: 320 hours.

Number of Respondents: Approximately 4,800 adult motorists will respond to survey questions about the children in their vehicle.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: September 1, 2005.
Joseph Carra,
Associate Administrator for the National Center for Statistics and Analysis, NHTSA.

[FR Doc. 05-18292 Filed 9-14-05; 8:45 am]

BILLING CODE 4910-59-P